NATIONAL AERONAUTICS AND SPACE ADMINISTRATION

48 CFR Parts 1803 and 1852

NASA Inspector General Hotline Posters

AGENCY: National Aeronautics and Space Administration (NASA).

ACTION: Final rule.

SUMMARY: This is a final rule that amends the NASA FAR Supplement (NFS) to require NASA contractors to display “hotline posters” on contracts exceeding $5,000,000 and performed at contractor facilities in the United States.

EFFECTIVE DATE: June 1, 2001.

FOR FURTHER INFORMATION CONTACT: Paul Brundage, NASA Headquarters, Office of Procurement, Contract Management Division (Code HK), Washington, DC 20546-0001, (202) 358-0481, e-mail: paul.brundage@hq.nasa.gov.

SUPPLEMENTARY INFORMATION:

A. Background

NASA's Office of Inspector General (IG) requested that NASA contractors be required to display “hotline posters” in contractor facilities performing work on some NASA contracts. Foreign contracts and contracts less than $5,000,000 are exempt. This final rule requires contractors to obtain from the NASA IG “hotline posters” and to post them in facilities where and when work is performed on an applicable NASA contract. By waiver from Part 12, NASA might also impose this requirement on a case-by-case basis in contracts for commercial items when unusual circumstances warrant. An example of such circumstances might include procurements involving extraordinary concerns about the safety of human life.

A proposed rule was published in the Federal Register on May 22, 2000, (65 FR 32069—32070). NASA received one comment. The commenter recommended that NASA conform to DoD by exempting contractors having an established internal reporting mechanism and program. NASA's IG believes employees of NASA contractors should have an independent avenue to report violations. In its view, the existence of an internal reporting mechanism does not assure employees would report illegal activities seen on the job. Therefore, no changes are being made as a result of this comment. The proposed rule is being adopted as final with a change to section 1803.7001 to change the word “provision” to “clause”.

B. Regulatory Flexibility Act

NASA certifies that this rule will not have a significant economic impact on a substantial number of small business entities under the Regulatory Flexibility Act (5 U.S.C. 601 et seq.) because it only affects small business entities with contracts exceeding $5,000,000 and the NASA Office of Inspector General will provide the posters at no direct cost to contractors.

C. Paperwork Reduction Act

The Paperwork Reduction Act does not apply because this final rule does not impose any recordkeeping or information collection requirements that require the approval of the Office of Management and Budget under 44 U.S.C. 3501, et seq.

Lists of Subjects in 48 CFR Parts 1803 and 1852

Government procurement.

Tom Luedtke,
Associate Administrator for Procurement.

Accordingly, 48 CFR Parts 1803 and 1852 are amended as follows:

1. The authority citation for 48 CFR Parts 1803 and 1852 continues to read as follows:

Authority: 42 U.S.C. 2473(c)(1).

PART 1803—IMPROPER BUSINESS PRACTICES AND PERSONAL CONFLICTS OF INTEREST

2. Add Subpart 1803.70 to read as follows:

Subpart 1803.70—IG Hotline Posters
1803.7000 Policy.
1803.7001 Contract clause.

Subpart 1803.70—IG Hotline Posters

1803.7000 Policy.

NASA requires contractors to display NASA hotline posters prepared by the NASA Office of Inspector General on those contracts specified in 1803.7001, so that employees of the contractor having knowledge of waste, fraud, or abuse, can readily identify a means to contact NASA's IG.

1803.7001 Contract clause.

Contracting officers must insert the clause at 1852.203-70, Display of Inspector General Hotline Posters, in solicitations and contracts expected to exceed $5,000,000 and performed at contractor facilities in the United States.

PART 1852—SOLICITATION PROVISIONS AND CONTRACT CLAUSES

3. Add section 1852.203-70 to read as follows:

1852.203-70 Display of Inspector General Hotline Posters.

As prescribed in 1803.7001, insert the following clause:

Display of Inspector General Hotline Posters June 2001

(a) The Contractor shall display prominently in common work areas within business segments performing work under this contract, Inspector General Hotline Posters available under paragraph (b) of this clause.

(b) Inspector General Hotline Posters may be obtained from NASA Office of Inspector General, Code W, Washington, DC, 20546-0001, (202) 358-1220.

[FR Doc. 01-13812 Filed 5-31-01; 8:45 am]

BILLING CODE 7510-01-P